FEDERAL COMMUNICATIONS COMMISSION

National Emergency

AGENCY: Federal Communications Commission.

ACTION: Notice.

SUMMARY: This document announces that the Commission will accept all filings that were due on September 11, 2001 on September 12, 2001.

ADDRESSES: Federal Communications Commission, 445 12th Street, SW., Washington, DC 20554.

FOR FURTHER INFORMATION CONTACT: Magalie Roman Salas, Secretary, FCC, (202) 418-0300.

SUPPLEMENTARY INFORMATION: Due to the national emergency that occurred on September 11, 2001, the Federal Communications Commission closed its offices early in the morning. According to § 1.4(e)(1), all filings, paper and electronic, that were due on September 11, 2001, are due on September 12, 2001, the Commission's next official work day after the early closing. In addition, September 11th does not count in computing filing periods that are less than seven days. See CFR 1.4(g).

Federal Communications Commission.
Magalie Roman Salas,
Secretary.

[FR Doc. 01-23268 Filed 9-14-01; 8:45 am]

BILLING CODE 6712-01-P